DEPARTMENT OF ENERGY

International Energy Agency Meetings

AGENCY: Department of Energy.

ACTION: Notice of meetings.

SUMMARY: The Industry Advisory Board (IAB) to the International Energy Agency (IEA) will meet on May 31 through June 1, 2016, at the headquarters of the IEA in Paris, France in connection with a joint meeting of the IEA's Standing Group on Emergency Questions (SEQ) and the IEA's Standing Group on the Oil Market (SOM) on May 31, 2016, in connection with a meeting of the SEQ on that day and on June 1, 2016.

DATES: May 31 through June 1, 2016.

ADDRESSES: 9, rue de la Fédération, Paris, France.

FOR FURTHER INFORMATION CONTACT: Thomas Reilly, Assistant General Counsel for International and National Security Programs, Department of Energy, 1000 Independence Avenue SW., Washington, DC 20585, 202-586-5000.

SUPPLEMENTARY INFORMATION: In accordance with section 252(c)(1)(A)(i) of the Energy Policy and Conservation Act (42 U.S.C. 6272(c)(1)(A)(i)) (EPCA), the following notice of meetings is provided:

Meetings of the Industry Advisory Board (IAB) to the International Energy Agency (IEA) will be held at the headquarters of the IEA, 9, rue de la Fédération, Paris, France, on May 31, 2016, commencing at 2:00 p.m.. The purpose of this notice is to permit attendance by representatives of U.S. company members of the IAB at a joint meeting of the IEA's Standing Group on Emergency Questions (SEQ) and the IEA's Standing Group on the Oil Markets (SOM) on May 31, to be held at the same location commencing at 2:00 p.m. The IAB will also hold a preparatory meeting among company representatives at the same location at 8:30 a.m. on June 1. The agenda for this preparatory meeting is to review the agenda for the SEQ meeting. The SEQ meeting will commence, at the same location, on June 1, 2016 at 9:30 a.m.

The agenda of the joint meeting of the SEQ and SOM is under the control of the SEQ and SOM. It is expected that the SEQ and SOM will adopt the following agenda:

1. Adoption of the Agenda

2. Approval of the Summary Record of the 17 March 2106 Joint Session

3. Reports on Recent Oil Market and Policy Developments in IEA Countries

4. The Current Oil Market Situation “Presentation of OMR MAY 2106” + Questions & Answers

5. Presentation from IEA Division and discussion (TBC)

6. Presentation from External Speaker and discussion, on “Oil Pricing Issues”

7. Other Business

—Tentative schedule of upcoming SEQ and SOM meetings for 2016:

—27-29 September 2016

The agenda of the SEQ meeting on June 1, 2106 is under the control of the SEQ. It is expected that the SEQ will adopt the following agenda:

1. Adoption of the Agenda

2. Approval of the Summary Record of the 147th Meeting

3. Status of Compliance with IEP Agreement Stockholding Obligations

4. Australian Compliance Update

5. Bilateral Stockholding in non-OECD Countries—progress report

6. Association—“Oil Umbrella” concept

7. ERR Programme

8. Emergency Response Review of the Netherlands

9. Mid-term Review of Italy

10. Industry Advisory Board Update

11. Emergency Response Review of France

12. Mid-Term Review of Estonia

13. Update on ERE8 Arrangements

14. Mexican Accession

15. Outreach Activities

16. Oral Reports by Administrations

17. Other Business

Schedule of SEQ and SOM Meetings, 2016 provisional dates: 27-29 September

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC May 18, 2016.
Thomas Reilly,
Assistant General Counsel for International and National Security Programs.

[FR Doc. 2016-12280 Filed 5-23-16; 8:45 am]

BILLING CODE 6450-01-P